DEPARTMENT OF COMMERCE

Foreign-Trade Zones Board

(Docket 67-2005)

Foreign-Trade Zone 163 - Ponce, PR; Application for Expansion

SUPPLEMENTARY INFORMATION: An application has been submitted to the Foreign-Trade Zones (FTZ) Board (the Board) by CODEZOL, C.D., grantee of FTZ 163, requesting authority to expand FTZ 163 to a site in Guaynabo, Puerto Rico. The application was submitted pursuant to the provisions of the Foreign-Trade Zones Act, as amended, (19 U.S.C. 81a-81u), and the regulations of the Board (15 CFR Part 400). It was formally filed on December 22, 2005.

FTZ 163 was approved on October 18, 1989 (Board Order 443, 54 FR 46097, 11/1/89), and expanded on April 18, 2000 (Board Order 1091, 65 FR 24676, 4/27/00) and June 9, 2005 (Board Order 1397, 70 FR 36117, 6/22/05). The zone project currently consists of the following sites in the Ponce, Puerto Rico, area: Site 1 (106 acres)-within the Port of Ponce area, including a site (11 acres) located at 3309 Avenida Santiago de los Caballeros, Ponce; Site 2 (191 acres, 5 parcels)-Peerless Oil & Chemicals, Inc., petroleum terminal facilities located at Rt. 127, Km. 17.1, Penuelas; Site 3 (13 acres, 2 parcels)-Rio Piedras Distribution Center located within the central portion of the Quebrada Arena Industrial Park, and the Hato Rey Distribution Center located within the northeastern portion of the Tres Monjitas Industrial Park, San Juan; Site 4 (14 acres)-warehouse facility located at State Road No. 3, Km. 1401, Guayama (expires 10/1/04); Site 5 (256 acres, 34 parcels)-Mercedita Industrial Park located at the intersection of Route PR-9 and Las Americas Highway, Ponce; and, Site 6 (86 acres)-Coto Laurel Industrial Park located at the southwest corner of the intersection of Highways PR-56 and PR-52, Ponce.

The applicant is now requesting authority to expand the zone to include a site in Guaynabo, Puerto Rico. The proposed site consists of 17.2 acres and is located at State Road No. 1, Km 21.1 in Guaynabo.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW., Washington, DC 20005; or

2. Submissions Via the U.S. Postal Service: Foreign-Trade-Zones Board, U.S. Department of Commerce, FCB - Suite 4100W, 1401 Constitution Ave. NW., Washington, DC 20230.

The closing period for their receipt is February 28, 2006. Rebuttal comments in response to material submitted during the foregoing period may be submitted during the subsequent 15-day period (to March 15, 2006).

A copy of the application and accompanying exhibits will be available for public inspection at the Office of the Foreign-Trade Zones Board's Executive Secretary at the first address listed above, and at the U.S. Department of Commerce Export Assistance Center, Midtown Bldg 10th Floor, 420 Ponce de Leon Ave, San Juan, PR 00918.

Dated: December 22, 2005.
Dennis Puccinelli,
Executive Secretary.

[FR Doc. E5-8132 Filed 12-29-05; 8:45 am]

BILLING CODE 3510-DS-S